DEPARTMENT OF HOUSING AND URBAN DEVELOPMENT

[Docket No. FR-4977-N-04]

Notice of Submission of Proposed Information Collection to OMB: Emergency Comment Request, Survey of HUD Homeownership Fair Attendees

AGENCY: Office of Policy Development and Research, HUD.

ACTION: Notice.

SUMMARY: The proposed information collection requirement described below has been submitted to the Office of Management and Budget (OMB) for emergency review and approval, as required by the Paperwork Reduction Act. The Department is soliciting public comments on the subject proposal.

DATES: Comments Due Date: May 20, 2005.

ADDRESSES: Interested persons are invited to submit comments regarding this proposal. Comments must be received within fourteen (14) days from the date of this notice. Comments should refer to the proposal by name/or OMB approval number and should be sent to Mr. Mark Menchik, HUD Desk Officer, Office of Management and Budget, Room 10235, New Executive Office Building, Washington, DC 20503.

FOR FURTHER INFORMATION CONTACT: Wayne Eddins, Reports Management Officer, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This notice informs the public that the U.S. Department of Housing and Urban Development (HUD) has submitted to OMB, for emergency processing, a survey instrument to obtain information from persons who attend HUD's Homeownership Fairs. This notice is soliciting comments from members of the public and affecting agencies and concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond including through the use of appropriate automated collection techniques or other forms of information technology (e.g., permitting electronic submission of responses).

This notice also lists the following information:

Title of Proposal: Survey of HUD Homeownership Fair Attendees.

Description of the Need for the Information and its Proposed Use: The U.S. Department of Housing and Urban Development plans to survey persons as they arrive to attend HUD's Homeownership Fairs in June. HUD is conducting the survey to determine the demographic characteristics of people who attend, how they heard about the fair, and what they hope to learn from attending the Fair. HUD will not collect the name or other identifying information from those attending. The purpose of collecting this data is to better design the marketing and content of future Homeownership Fairs. The three research questions are: (1) Is the fair attracting a broad demographic spectrum of potential homebuyers? (2) What advertising source led to attendees of different demographic backgrounds attending? (3) What types of information were attendees hoping to learn at the Fair? The Homeownership Fairs are to be conducted as part of Homeownership Month in June 2005. The Fairs will be conducted in four communities, Albuquerque, Cincinnati, Orlando, and New Orleans. As estimated 4,000 people will attend the fairs.

OMB Control Number: Pending OMB approval.

Agency Form Numbers: None.

Members of Affected Public: Attendees of HUD Homeownership Fair. Estimated of the total numbers of hours needed to prepare the information collection including number of respondents, frequency of responses, and hours of response: An estimation of the total numbers of hours needed to prepare the information collection is 320, number of respondents is 4,000, frequency of response is 1 per annum, and the total hours per respondent is 0.048.

Authority: The Paperwork Reduction Act of 1995, 44 U.S.C. Chapter 35, as amended.

Dated: April 28, 2005.
Harold L. Bunce,
Deputy Assistant Secretary for Economic Affairs.

[FR Doc. 05-9024 Filed 5-5-05; 8:45 am]

BILLING CODE 4210-62-M